INTERNATIONAL BOUNDARY AND WATER COMMISSION, UNITED STATES AND MEXICO

United States Section; Notice of Availability of Draft Environmental Impact Statement, River Management Alternatives for the Rio Grande Canalization Project, Sierra and Doña Ana Counties, NM and El Paso County, TX

AGENCY: United States Section, International Boundary and Water Commission, United States and Mexico.

ACTION: Notice of availability of Draft Environmental Impact Statement.

SUMMARY: Pursuant to section 102(2)(c) of the National Environmental Policy Act (NEPA) of 1969, as amended, the United States Section, International Boundary and Water Commission (USIBWC), in cooperation with the United States Bureau of Reclamation (USBR), has prepared a Draft Environmental Impact Statement (DEIS) on River Management Alternatives for the Rio Grande Canalization Project (RGCP) located in Sierra and Doña Ana Counties, NM and El Paso County, TX. The DEIS analyzes effects of the No Action Alternative and three action alternatives on the future RGCP operation, maintenance, and implementation of environmental measures. One public hearing will be held to receive oral comments on the DEIS from interested organizations and individuals through transcription by a certified court reporter. Written comments may be submitted at the public hearings or mailed to the USIBWC contact and address below.

DATES: Written comments are requested by February 10, 2004. A public hearing is scheduled for Tuesday, January 27, 2004 in El Paso, Texas. See ADDRESSES below for location and time.

ADDRESSES: Comments should be addressed to: Mr. Douglas Echlin, Lead Environmental Protection Specialist, Environmental Management Division, USIBWC, 4171 North Mesa Street, C-310, El Paso, Texas 79902. A public hearing is scheduled from 6:30 to 8:30 p.m. on Tuesday, January 27, 2004 at the USIBWC Headquarters, First Floor Conference Room, 4171 North Mesa Street, El Paso, Texas 79902 to present your verbal or written comments.

Copies of the DEIS are available for inspection and review at the following locations: Branigan Memorial Library, 200 East Picacho Avenue, Las Cruces, New Mexico; El Paso Public Library, 501 North Oregon Street, El Paso, Texas; New Mexico State University Library, Las Cruces, New Mexico; University Library, The University of Texas at El Paso, El Paso, Texas; and United States Section, International Boundary and Water Commission, 4171 North Mesa Street, El Paso, Texas. A copy of the DEIS will also be posted at the USIBWC Web site at www.ibwc.state.gov “IBWC News.”

FOR FURTHER INFORMATION CONTACT: Mr. Douglas Echlin, Lead Environmental Protection Specialist, Environmental Management Division, USIBWC, 4171 North Mesa Street, C-310, El Paso, Texas 79902 or call 915/832-4741. e-mail: dougechlin@ibwc.state.gov.

SUPPLEMENTARY INFORMATION: The USIBWC is evaluating long-term river management alternatives for the Rio Grande Canalization Project (RGCP), a narrow river corridor that extends 105.4 river miles along the Rio Grande, from below Percha Dam in Sierra County, New Mexico to American Dam in El Paso, Texas. The RGCP is operated and maintained by the USIBWC and was constructed to facilitate water deliveries to the Rincon and Mesilla Valleys in New Mexico, El Paso Valley in Texas, and Juarez Valley in Mexico. The project also includes a levee system for flood control.

The USIBWC currently implements operation and maintenance procedures to enhance ecosystem functions within the RGCP; however, alterations to the river and floodway from events that pre-date RGCP construction continue to affect the river and floodway. Therefore, USIBWC recognizes the need to accomplish flood control, water delivery, and operations and maintenance activities in a manner that enhances and restores the riparian ecosystem.

River management alternatives were considered and developed over a three-year-long public consultation process that included input from the general public and stakeholders such as regulatory agencies, irrigation districts, and environmental organizations. The No Action Alternative and three potential action alternatives were selected for further evaluation in the DEIS. Levee rehabilitation, changes associated with grazing leases to improve erosion control, floodway management, and river restoration including aquatic habitat diversification and riparian vegetation development are measures considered in the action alternatives. The USIBWC will select a preferred alternative after public comment on the DEIS.

A copy of the DEIS has been filed with the Environmental Protection Agency (EPA) in accordance with 40 CFR parts 1500-1508 and USIBWC procedures. Written comments concerning the DEIS will be accepted at the address provided above until February 10, 2004.

Dated: December 18, 2003.
Mario Lewis,
General Counsel.

[FR Doc. 03-31664 Filed 12-23-03; 8:45 am]

BILLING CODE 4710-03-U